DEPARTMENT OF HEALTH AND HUMAN SERVICES

Administration for Children and Families

Proposed Information Collection Activity: Comment Request

Title: Innovative Strategies for Increasing Self-Sufficiency: Follow-Up Data Collection.

OMB No.: 0970-0397.

Description: The Administration for Children and Families (ACF), U.S. Department of Health and Human Services (HHS), is proposing a data collection activity as part of the Innovative Strategies for Increasing Self-Sufficiency (ISIS) demonstration and evaluation. The ISIS project will test a range of promising career pathways strategies to promote education, employment, and self-sufficiency. The major goals of the ISIS project include increasing the empirical knowledge about the effectiveness of a variety of programs for low-income individuals and families to achieve educational credentials, attain employment and advance to positions that enable self-sufficiency, as well as producing useful findings for both policymakers and program administrators.

This proposed information collection activity focuses on collecting follow-up data elements approximately fifteen months after program enrollment. Baseline data collection instruments were previously approved under OMB No. 0970-0397.

The purpose of this information collection effort is to follow-up with study participants, document the experiences of program participants, examine differences in service receipt and educational experiences between program and control group members, describe the intervention as it was implemented in each site and assess the extent to which it was implemented as intended, and assess the implications for intervention scalability and sustainability.

Specifically, this data will be collected using the following instruments: (a) A follow-up survey which will be administered to all study participants approximately 15 months following enrollment in the study; (b) a modification to the Baseline Information Form requesting some basic information about all of the study participant's children (if applicable); (c) interview guides for the in-person visits to the intervention sites to structure discussions with program leadership/managers, instructional staff, case managers/advisors, partners and employers; (d) a brief survey for instructional staff; (e) a brief survey for case managers/advisors; (f) a brief study participant check-in call; and (g) in-depth interviews with a sample of study participants. Respondents: Individuals enrolled in the ISIS demonstration programs, control group members, ISIS program/partner staff (including program leadership, case managers and instructional staff), and other local informants.

Annual Burden Estimates
Instrument | Total number of respondents | Number of responses per respondent | Average burden hours per response | Total burden hours | Average annual burden hours
#1 Basic Information Form Modification | 5,645 | 1 | 0.05 | 282 | 94
#2 15 Month Follow-up Survey, no child roster | 6,998 | 1 | 0.833 | 5,829 | 1943
#2 15 Month Follow-up Survey, with child roster | 1,562 | 1 | 1 | 1,562 | 521
#2 15 Month Follow-Up Survey, Additional HPOG Questions | 2,974 | 1 | 0.083 | 247 | 82
#3 Program Leadership/Managers/Supervisors Interview Guide | 46 | 1 | 2 | 92 | 31
#3 Instructional Staff Interview Guide | 58 | 1 | 2 | 116 | 39
#3 Case Managers/Advisor Interview Guide | 50 | 1 | 2 | 100 | 33
#3 Partners Interview Guide | 54 | 1 | 2 | 108 | 36
#4 Case Managers/Advisors Online Survey | 90 | 1 | 0.5 | 45 | 15
#5 Manager/Supervisor Online Survey | 43 | 1 | 0.5 | 22 | 7
#6 Instructional Staff Online Survey | 136 | 1 | 0.5 | 68 | 23
#7 Study Participant Interview Guide | 210 | 2 | 2.083 | 875 | 292
#7 Study Participant Check-in Call | 210 | 1 | 0.16 | 34 | 11
Total Burden Hours: New Collection |  |  |  | 9,380 | 3,127

Additional Information: Copies of the proposed collection may be obtained by writing to the Administration for Children and Families, Office of Planning, Research and Evaluation, 370 L'Enfant Promenade, SW., Washington, DC 20447, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Steven M. Hanmer,
Reports Clearance Officer.

[FR Doc. 2013-07707 Filed 4-3-13; 8:45 am]

BILLING CODE 4184-09-M